DEPARTMENT OF COMMERCE

International Trade Administration

[A-570-007]

Barium Chloride from The People's Republic of China; Final Results of the Sunset Review of Antidumping Duty Order

AGENCY: Import Administration, International Trade Administration, Department of Commerce.

ACTION: Expedited Sunset Review of Antidumping Duty Order on Barium Chloride from The People's Republic of China; Final Results.

SUMMARY: On February 2, 2004, the Department of Commerce (“the Department”) published the notice of initiation of sunset review on barium chloride from the People's Republic of China (“China”). On the basis of the notice of intent to participate, and adequate substantive comments filed on behalf of a domestic interested party and inadequate response (in this case, no response) from respondent interested party, we determined to conduct an expedited (120-day) sunset review. As a result of this review, we find that revocation of the antidumping duty order would be likely to lead to continuation or recurrence of dumping at the levels listed below in the section entitled “Final Results of Review.”

EFFECTIVE DATE: June 7, 2004.

FOR FURTHER INFORMATION CONTACT: Martha V. Douthit, Office of Policy for Import Administration, International Trade Administration, U.S. Department of Commerce, 14th Street and Constitution Avenue, NW, Washington, DC, 20230; telephone: (202) 482-5050.

SUPPLEMENTARY INFORMATION:

Background

On February 2, 2004, the Department published the notice of initiation of sunset review of the antidumping duty order on barium chloride from China pursuant to section 751(c) of the Tariff Act of 1930, as amended (the “Act”).¹ The Department received Notice of Intent to Participate on behalf of Chemical Products Corporation (“CPC”), a domestic interested party, within the deadline specified in section 351.218(d)(1)(i) of the Department's Regulations (“Sunset Regulations”). CPC claimed interested party status under Section 771(9)(C) of the Act as a U.S. producer of barium chloride. We received a complete substantive response from CPC within the 30-day deadline specified in the Sunset Regulations under section 351.218(d)(3)(I).

¹ Initiation of Five-Year (Sunset) Reviews,69 FR 4921 ( February 2, 2004).

We did not receive a substantive response from any interested party respondents in this proceeding. As a result, pursuant to section 751(c)(3)(B) of the Act and 19 CFR 351.218(e)(1)(ii)(C)(2), the Department conducted an expedited (120-day) sunset review of this antidumping duty order.

The order remains in effect for all Chinese manufacturers, producers, and exporters.

Scope of the Order

The merchandise covered by this order is barium chloride, a chemical compound having the formula BaCl2 or BaCl2-2H2 0, currently classifiable under item 2827.38.00 of the Harmonized Tariff Schedules (HTS). HTS items numbers are provided for convenience and for Customs purposes. The written descriptions remain dispositive.

Analysis of Comments Received

All issues raised in this case by CPC are addressed in the “Issues and Decision Memorandum” (“Decision Memo”) from Ronald K. Lorentzen, Acting Director, Office of Policy, Import Administration, to James J. Jochum, Assistant Secretary for Import Administration, dated June 1, 2004, which is hereby adopted by this notice. The issues discussed in the Decision Memo include the likelihood of continuation or recurrence of dumping and the magnitude of the margin likely to prevail if the finding were to be revoked. Parties can find a complete discussion of all issues raised in this review and the corresponding recommendations in this public memorandum, which is on file in room B-099 of the main Commerce Building.

In addition, a complete version of the Decision Memo can be accessed directly on the Web at http://ia.ita.doc.gov/frn, under the heading “June 2004.” The paper copy and electronic version of the Decision Memorandum are identical in content.

Final Results of Review

We determine that revocation of the antidumping duty order on barium chloride from China would be likely to lead to continuation or recurrence of dumping at the following percentage weighted-average margins:

Manufacturers/Exporters/Producers | Weighted Average Margin Percent
China National Chemicals Import and Export Corporation (SINOCHEM) | 155.50
China-wide rate | 155.50

This notice also serves as the only reminder to parties subject to administrative protective orders (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing the results and notice in accordance with sections 751(c), 752, and 777(i)(1) of the Act.

Dated: May 28, 2004.
Jeffrey A. May,
Acting Assistant Secretary for Import Administration.

[FR Doc. 04-12807 Filed 6-4-04; 8:45 am]

BILLING CODE 3510-DS-S